DEPARTMENT OF COMMERCE

Foreign-Trade Zones Board

[Order No. 1517]

Approval for Expansion of Authority for Subzone 183B, Samsung Austin Semiconductor L.L.C. (Semiconductors), Austin, Texas

Pursuant to its authority under the Foreign-Trade Zones Act of June 18, 1934, as amended (19 U.S.C. 81a-81u), the Foreign-Trade Zones Board (the Board) adopts the following Order:

Whereas, the Foreign-Trade Zone of Central Texas, Inc., grantee of FTZ 183, has requested authority on behalf of Samsung Austin Semiconductor L.L.C. (Samsung), to expand the scope of manufacturing activity conducted under zone procedures within Subzone 183B at the Samsung facilities in Austin, Texas (FTZ Docket 8-2007, filed 2/28/2007);

Whereas, notice inviting public comment has been given in the Federal Register (72 FR 13081-13082, 3/20/2007);

Whereas, the Board adopts the findings and recommendations of the examiner's report, and finds that the requirements of the FTZ Act and Board's regulations are satisfied, and that approval of the application is in the public interest;

Now, therefore, the Board hereby orders:

The application to expand the scope of manufacturing authority under zone procedures within Subzone 183B, is approved, subject to the FTZ Act and the Board's regulations, including § 400.28.

Signed at Washington, DC, this 6th day of August 2007.

David M. Spooner,
Assistant Secretary of Commerce for Import Administration, Alternate Chairman, Foreign-Trade Zones Board.
Attest:
Andrew McGilvray,
Executive Secretary.

[FR Doc. E7-15809 Filed 8-10-07 8:45 am]

BILLING CODE 3510-DS-S